DEPARTMENT OF AGRICULTURE

Food and Nutrition Service

7 CFR Part 273

[FNS-2018-0037]

RIN 0584-AE62

Revision of Categorical Eligibility in the Supplemental Nutrition Assistance Program (SNAP); Reopening of Comment Period

AGENCY: Food and Nutrition Service (FNS), USDA.

ACTION: Proposed rule; reopening of comment period.

SUMMARY: The Food and Nutrition Service (FNS, or the Agency) proposed to make changes to the Supplemental Nutrition Asisstance Program (SNAP) regulations to refine categorical eligibility requirements based on receipt of Temporary Assistance for Needy Families (TANF) benefits. To aid the public's review of the rulemaking, FNS is providing an informational analysis regarding the potential impacts on participants in the National School Lunch Program and School Breakfast Program. The agency is extending the comment period to provide the public an opportunity to review and provide comment on this document as part of the rulemaking record. Comments that do not pertain to the issues referenced in this additional document are not germane to the extended comment period and will not be accepted.

DATES: The comment period on the proposed rule that published July 24, 2019 (84 FR 35570) is reopened. Written comments must be received on or before November 1, 2019 to be assured of consideration.

ADDRESSES: The Food and Nutrition Service, USDA, invites interested persons to submit written comments on this proposed rule. Comments may be submitted in writing by the following method:

• Federal eRulemaking Portal: Go to http://www.regulations.gov. Follow the online instructions for submitting comments.

• All written comments submitted in response to this proposed rule will be included in the record and will be made available to the public. Please be advised that the substance of the comments and the identity of the individuals or entities submitting the comments will be subject to public disclosure. FNS will make the written comments publicly available on the internet via http://www.regulations.gov.

FOR FURTHER INFORMATION CONTACT: Office of Policy Support, Food and Nutrition Service, USDA, 3101 Park Center Dr., Alexandria, VA 22302.

SUPPLEMENTARY INFORMATION: On July 24, 2019, FNS published in the Federal Register (84 FR 35570) a proposed rule to refine categorical eligibility requirements based on receipt of TANF benefits. Specifically, FNS proposed: (1) To define “benefits” for categorical eligibility to mean ongoing and substantial benefits; and (2) to limit the types of non-cash TANF benefits conferring categorical eligibility to those that focus on subsidized employment, work supports and childcare. The proposed rule would also require State agencies to inform FNS of all non-cash TANF benefits that confer categorical eligibility. FNS has provided an additional supplemental analysis on www.regulations.gov regarding the potential impacts on participants in the National School Lunch Program and School Breakfast Program. This informational analysis, which was prepared upon request after the proposed rule was published, is being posted to the docket in the interest of public transparency. This analysis has now been published on www.regulations.gov as part of Docket FNS-2018-0037. FNS is extending the comment period to provide the public an opportunity to review and provide comment on this document as part of the rulemaking record. This document notifies the public FNS is reopening the comment period. For additional information, see the proposed rule published July 24, 2019 (84 FR 35570).

Dated: October 11, 2019.
Stephen L. Censky,
Deputy Secretary, U.S. Department of Agriculture.

[FR Doc. 2019-22783 Filed 10-17-19; 8:45 am]

BILLING CODE 3410-30-P